DEPARTMENT OF TRANSPORTATION

Federal Aviation Administration

14 CFR Part 95

[Docket No. 30769; Amdt. No. 492]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, March 10, 2011.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on February 4, 2011.
John McGraw,
Deputy Director, Flight Standards Service.

Adoption of the Amendment

Accordingly, pursuant to the authority delegated to me by the Administrator, part 95 of the Federal Aviation Regulations (14 CFR part 95) is amended as follows effective at 0901 UTC, March 10, 2011.

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 492 effective date March 10, 2011]
From | To | MEA
§ 95.1001 Direct Routes—U.S. Color Routes
§ 95.516 Green Federal Airway G16 Is Amended To Delete In Part
PUT RIVER, AK NDB | BARTER ISLAND, AK NDB | 2000

From | To | MEA | MAA
§ 95.3000 Low Altitude RNAV Routes
§ 95.3278 RNAV Route T278 Is Amended To Read in Part
*HAPIT, AK FIX | CSPER, AK FIX | 4000 | 17500
*15000—MRA
CSPER, AK FIX | SISTERS ISLAND, AK VORTAC | 5300 | 17500
§ 95.6001 Victor Routes—U.S.
§ 95.6016 VOR Federal Airway V16 Is Amended To Read in Part
RICHMOND, VA VORTAC | *TAPPA, VA FIX | 2000
*5000—MCA TAPPA, VA FIX, NE BND
TAPPA, VA FIX | PATUXENT, MD VORTAC | *5000
*1500—MOCA
*2000—GNSS MEA
§ 95.6020 VOR Federal Airway V20 Is Amended To Read in Part
RICHMOND, VA VORTAC | *TAPPA, VA FIX | 2000
*5000—MCA TAPPA, VA FIX, NE BND
TAPPA, VA FIX | *COLIN, VA FIX | **5000
*10000—MCA COLIN, VA FIX, N BND
**1500—MOCA
**2000—GNSS MEA
§ 95.6026 VOR Federal Airway V26 Is Amended To Read in Part
EAU CLAIRE, WI VORTAC | EDGRR, WI FIX | *4500
*2900—MOCA
EDGRR, WI FIX | #WAUSAU, WI VORTAC | *6000
*3600—MOCA
*3600—GNSS MEA
#WAUSAU R-271 UNUSABLE BYD 10 NM, USE EAU CLAIRE R-087.
§ 95.6033 VOR Federal Airway V33 Is Amended To Read in Part
HARCUM, VA VORTAC | *COLIN, VA FIX | **4000
*10000—MCA COLIN, VA FIX, N BND
**1600—MOCA
**2000—GNSS MEA
§ 95.6055 VOR Federal Airway V55 Is Amended To Read in Part
#SIREN, WI VOR/DME | BRAINERD, MN VORTAC | *6000
*2800—MOCA
*3000—GNSS MEA
#SIREN R-293 UNUSABLE, USE BRAINERD R-111
§ 95.6056 VOR Federal Airway V56 Is Amended To Read in Part
FAYETTEVILLE, NC VOR/DME | *ROZBO, NC FIX | 2000
*5000—MRA
*ROZBO, NC FIX | WALLO, NC FIX | 2000
*5000—MRA
WALLO, NC FIX | KROVE, NC FIX | *3000
*2400—MOCA
KROVE, NC FIX | NEW BERN, NC VOR/DME | *2400
*1800—MOCA
§ 95.6062 VOR Federal Airway V62 Is Amended To Read in Part
TEXICO, TX VORTAC | SPADE, TX FIX | 5900
SPADE, TX FIX | LUBBOCK, TX VORTAC | 5000
§ 95.6102 VOR Federal Airway V102 Is Amended To Read in Part
LUBBOCK, TX VORTAC | GUTHRIE, TX VORTAC | 5000
§ 95.6108 VOR Federal Airway V108 Is Amended To Read in Part
RED TABLE, CO VOR/DME | *STAMY, CO FIX | 16400
*12300—MCA STAMY, CO FIX, W BND
STAMY, CO FIX | *BLACK FOREST, CO VORTAC | 12000
*10700—MCA BLACK FOREST, CO VORTAC, W BND
§ 95.6157 VOR Federal Airway V157 Is Amended To Read in Part
RICHMOND, VA VORTAC | *TAPPA, VA FIX | 2000
*5000—MCA TAPPA, VA FIX, NE BND
TAPPA, VA FIX | PATUXENT, MD VORTAC | *5000
*1500—MOCA
*2000—GNSS MEA
§ 95.6188 VOR Federal Airway V188 Is Amended To Read in Part
*WONOP, OH FIX | **CLERI, OH FIX | ***3000
*5000—MRA
**5000—MRA
***2200—MOCA
§ 95.6213 VOR Federal Airway V213 Is Amended To Read in Part
HOPEWELL, VA VORTAC | *TAPPA, VA FIX | 2000
*5000—MCA TAPPA, VA FIX, NE BND
TAPPA, VA FIX | PATUXENT, MD VORTAC | *5000
*1500—MOCA
*2000—GNSS MEA
§ 95.6284 VOR Federal Airway V284 Is Amended To Read in Part
SEA ISLE, NJ VORTAC | CEDAR LAKE, NJ VORTAC | *2500
*1800—MOCA
§ 95.6323 VOR Federal Airway V323 Is Amended To Read in Part
EUFAULA, AL VORTAC | BYROE, GA FIX | *3000
*2100—MOCA
BYROE, GA FIX | MACON, GA VORTAC | 2300
§ 95.6328 VOR Federal Airway V328 Is Amended To Read in Part
#JACKSON, WY VOR/DME | BIG PINEY, WY VOR/DME | 13500
#MTA V328 NW TO V465 SW 15100
§ 95.6330 VOR Federal Airway V330 Is Amended To Read in Part
IDAHO FALLS, ID VOR/DME | *OSITY, ID FIX | 8000
*9500—MCA OSITY, ID FIX, E BND
OSITY, ID FIX | #*JACKSON, WY VOR/DME | 14000
*13400—MCA JACKSON, WY VOR/DME, W BND
#MTA V330 E TO V520 W 16000
§ 95.6465 VOR Federal Airway V465 Is Amended To Read in Part
SHEAR, UT FIX | *MALAD CITY, ID VOR/DME
| SW BND | 11000
| NE BND | 10000
*10700—MCA MALAD CITY, ID VOR/DME, NE BND
#MALAD CITY, ID VOR/DME | LUNDI, ID FIX | 11500
#MTA V465 SW TO V21-257 NW 11000
LUNDI, ID FIX | #JACKSON, WY VOR/DME | *15000
*13300—MOCA
*13300—GNSS MEA
*MEA IS ESTABLISHED WITH A GAP IN NAVIGATION SIGNAL COVERAGE.
#MTA V465 NE TO V330 W OR V520 W 16000
§ 95.6469 VOR Federal Airway V469 Is Amended To Read in Part
#JOHNSTOWN, PA VORTAC | #ST THOMAS, PA VORTAC | *5000
*4500—MOCA
#JOHNSTOWN R-125 UNUSABLE, USE ST THOMAS R-307
§ 95.6520 VOR Federal Airway V520 Is Amended To Read in Part
SALMON, ID VOR/DME | *DUBOIS, ID VORTAC | 13500
*9000—MCA DUBOIS, ID VORTAC, E BND
DUBOIS, ID VORTAC | #*JACKSON, WY VOR/DME | 15300
*15200—MCA JACKSON, WY VOR/DME, W BND
#MTA V520 E TO V330 W 14200
§ 95.6536 VOR Federal Airway V536 Is Amended To Read in Part
PULLMAN, WA VOR/DME | MULLAN PASS, ID VOR/DME | 9100
MULLAN PASS, ID VOR/DME | KALISPELL, MT VOR/DME | *11500
*9700—MOCA
*10000—GNSS MEA
§ 95.6317 ALASKA VOR Federal Airway V317 Is Amended To Read in Part
SISTERS ISLAND, AK VORTAC CSPER, AK FIX
| NE BND | *7000
| SW BND | *15000
*5300—MOCA
CSPER, AK FIX | *HAPIT, AK FIX | **15000
*15000—MRA
**4000—MOCA

From | To | MEA | MAA
§ 95.7001 Jet Routes
§ 95.7040 Jet Route J40 Is Amended To Read in Part
#MONTGOMERY, AL VORTAC | #MACON, GA VORTAC | 18000 | 45000
#MACON R-258 UNUSABLE USE MONTGOMERY R-075
§ 95.7120 Jet Route J120 Is Amended To Read in Part
FORT YUKON, AK VORTAC | BARTER ISLAND, AK NDB | 18000 | 45000

From | To | Changeover points: Distance | Changeover points: From
§ 95.8003 VOR Federal Airway Changeover Points Airway Segment V10 Is Amended To Delete Changeover Point
YOUNGSTOWN, OH VORTAC | REVLOC, PA VOR/DME | 37 | YOUNGSTOWN
V116 Is Amended To Delete Changeover Point
KALAMAZOO, MI VOR/DME | JACKSON, MI VOR/DME | 36 | KALAMAZOO
V26 Is Amended To Add Changeover Point
EAU CLAIRE, WI VORTAC | WAUSAU, WI VORTAC | 71 | EAU CLAIRE
§ 95.8005 Jet Routes Changeover Points Airway Segment J40 Is Amended To Add Changeover Point
MONTGOMERY, AL VORTAC | MACON, GA VORTAC | 139 | MONTGOMERY

[FR Doc. 2011-4580 Filed 3-2-11; 8:45 am]

BILLING CODE 4910-13-P